FEDERAL COMMUNICATIONS COMMISSION

[CC Docket No. 91-281; DA 08-1924]

Consumer and Governmental Affairs Bureau Seeks Comment on Liberty Public School District Petition for Waiver of 47 CFR 64.1601(b) Regarding the Transmission of Calling Party Number

AGENCY: Federal Communications Commission.

ACTION: Notice.

SUMMARY: In this document, the Commission seeks comment on a petition filed by the Liberty Public School District (LPS) for a limited waiver of the Commission's caller identification rules which prohibit terminating carriers from passing calling party number (CPN) to the called party where a privacy indicator has been triggered. LPS asserts that the security and emergency response duties of its security offices have been severely hampered by carriers' refusal to provide CPN, and requests that the Commission allow LPS to receive CPN, even where the calling party has activated a privacy indicator.

DATES: Comments are due on or before September 12, 2008. Reply comments are due on or before September 22, 2008.

ADDRESSES: Interested parties may submit comments and reply comments identified by [CC Docket No. 91-281], by any of the following methods:

• Electronic Filers: Comments may be filed electronically using the Internet by accessing the Commission's Electronic comment Filing System (ECFS), through the Commission's Web site: http://www.fcc.gov/cgb/ecfs/, or the Federal eRulemaking Portal: http://www.regulations.gov.

• For electronic filers through ECFS or the Federal eRulemaking Portal, in completing the transmittal screen, filers should include their full name, U.S. Postal Service mailing address, and the applicable docket number, which in this instance is [CC Docket No. 91-281]. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

FOR FURTHER INFORMATION CONTACT: Julie Saulnier, Consumer and Governmental Affairs Bureau, Policy Division, at (202) 418-1598 (voice), or e-mail Julie.Saulnier@fcc.gov.

SUPPLEMENTARY INFORMATION: On April 22, 2007, the Liberty Public School District (LPS) filed a petition for a limited waiver of § 64.1601(b) of the Commission's rules. See Petition of Liberty Public School District for Waiver of Federal Communications Commission Regulations at 47 CFR 64.1601(b) Re: Calling Party Numbers, filed April 22, 2007 (Waiver Request). This is a summary of the Commission's Public Notice DA 08-1924. Pursuant to 47 CFR 1.415 and 1.419 of the Commission's rules, interested parties may file comments and reply comments on LPS's Waiver Request on or before the dates indicated on the first page of this document. The full text of document DA 08-1924 and any subsequently filed documents in this matter will be available for public inspection and copying during regular business hours at the FCC Reference Information Center, Portals II, 445 12th Street, SW., Room CY-A257, Washington, DC 20554, (202) 418-0270. Document DA 08-1924 and any subsequently filed documents in this matter may also be purchased from the Commission's duplicating contractor at the contractor's Web site, http://www.bcpiweb.com, or by calling (800) 378-3160. Furthermore, document DA 08-1924 any subsequently filed documents in this matter, and a copy of the underlying Waiver Request may be found by searching ECFS at http://www.fcc.gov/cgb/ecfs (insert [CC Docket No. 91-281] into the Proceeding block).

To request materials in accessible formats for people with disabilities (Braille, large print, electronic files, audio format), send an e-mail to fcc504@fcc.gov or call the Consumer and Governmental Affairs Bureau at (202) 418-0530 (voice), (202) 418-0432 (TTY). Document DA 08-1924 can also be downloaded in Word or Portable Document Format (PDF) at: http://www.fcc.gov/cgb/policy/headlines.html.

Synopsis

LPS is a public school district serving Liberty, Missouri, a city of approximately 30,000 that is part of Kansas City, Missouri, and parts of unincorporated Clay County, Missouri. LPS employs a staff of 1300 that provides education and services for 9300 students, with facilities and operations spanning a land area of approximately 30 square miles. According to LPS, the school district provides some of its own security and telecommunications services. Over the course of a year, LPS reports receiving between 6 and 10 threatening or harassing phone calls that are considered serious in nature. LPS states that the telecommunications carriers serving LPS are bound by the CPN privacy rules, and parties placing threatening or harassing calls often use the CPN privacy indicator to prevent authorities from identifying them or their location. As a result, LPS security personnel must request a trace of threatening or harassing calls to attempt to identify and locate the caller, a process that can take up to a week. LPS emphasizes that security personnel need to be able to identify and locate callers in a timelier manner to have a chance of apprehending them or preventing them from acting on their threats. According to LPS, its telecommunications assets include a Central Office Switch facility with a call information data log capable of recording all originating and terminating numbers. Currently, telecommunications carriers will not transmit restricted CPNs to LPS, and security and other personnel are therefore prevented from identifying and locating harassing or threatening callers in a timely manner.

LPS states that it will limit access to restricted CPN information by: (1) Operating the switch in a secure facility; (2) allowing telecommunications and security personnel to access restricted CPN data only when investigating threatening or harassing calls and documenting the access as part of the investigative report; (3) allowing transmission of restricted CPN information from LPS to other law enforcement agencies only through secure communications; and (4) destroying CPN data after a reasonable retention period. LPS argues that the waiver would serve the public interest because it would allow LPS to better protect its staff and students by providing rapid responses to threatening or harassing calls. LPS further argues that its situation presents special circumstances that warrant a limited waiver of the rules. First, LPS provides both the security service and end office telecommunications to all locations within its geographical boundaries. Also, the waiver would be applicable only to a narrow and well-defined public institution making it predictable, workable and not subject to discriminatory application.

Federal Communications Commission.
Nicole McGinnis,
Deputy Chief, Consumer and Governmental Affairs Bureau.

[FR Doc. E8-19987 Filed 8-27-08; 8:45 am]

BILLING CODE 6712-01-P